DEPARTMENT OF COMMERCE

Patent and Trademark Office

[Docket No. PTO-P-2020-0057]

Request for Comments on the National Strategy for Expanding American Innovation

AGENCY: United States Patent and Trademark Office, Department of Commerce.

ACTION: Request for comments.

SUMMARY: On September 14, 2020, the United States Patent and Trademark Office (USPTO) hosted the inaugural meeting of the National Council for Expanding American Innovation (NCEAI). The NCEAI consists of distinguished leaders from industry, academia, government, and nonprofit organizations. It was organized as an outgrowth of the Study of Underrepresented Classes Chasing Engineering and Science Success Act of 2018, which charged the USPTO with preparing a report concerning patenting and entrepreneurship activities among women, minorities, and veterans. The goal of the NCEAI is to help the USPTO develop a national strategy to build a more demographically, geographically, and economically inclusive innovation ecosystem. To assist in the development of this strategy, the USPTO is seeking input from the public.

DATES: Comment Deadline: To be ensured of consideration, written comments must be received by February 8, 2021.

ADDRESSES: Comments must be submitted through the Federal eRulemaking Portal at www.regulations.gov. To submit comments via the portal, enter docket number PTO-P-2020-0057 on the homepage and click “search.” The site will provide a search results page listing all documents associated with this docket. Find a reference to this notice and click on the “Comment Now!” icon, complete the required fields, and enter or attach your comments. Attachments to electronic comments will be accepted in ADOBE® portable document format or MICROSOFT WORD® format.

Because written comments and testimony will be made available for public inspection, information that a respondent does not desire to be made public, such as a phone number, should not be included in the testimony or written comments.

FOR FURTHER INFORMATION CONTACT: For questions or comments regarding this notice, please send your inquiries to innovationcomment@uspto.gov, or telephone Janine Scianna, Office of Governmental Affairs, at 571-272-0502.

SUPPLEMENTARY INFORMATION: To maintain the United States' economic competitiveness on the world stage, it is imperative for our nation to encourage individuals from all backgrounds and areas of the country to participate in the innovation ecosystem, particularly in obtaining intellectual property rights. However, research reveals patterns of disparity in innovation participation rates for women, people of color, veterans, economically disadvantaged people, and geographically underrepresented people. This disparity negatively affects the development of local communities as well as the social and economic well-being of the country at large. To increase participation in innovation by individuals from traditionally underrepresented groups, it is critically important to equip all inventors and prospective inventors, regardless of their demographic, geographic, or economic backgrounds, with information, resources, supportive communities, and opportunities. Our economy will benefit from a wealth of previously untapped talent when we, as a nation, successfully build an innovation community that more closely reflects the underlying diversity of our citizens.

In its SUCCESS Act report to Congress, the USPTO announced its plan to create a national strategy to promote and increase participation by underrepresented groups in inventing and innovation. The NCEAI consists of leaders from every corner of the innovation ecosystem—industry, academia, government, and nonprofit organizations. NCEAI representatives will provide input to help the USPTO develop its national strategy to expand innovation demographically, geographically, and economically. This strategy will be organized by a broad conceptual framework that considers the entire pathway along which interest and expertise in innovation is cultivated in an individual. One element of this framework will focus on “Creating Innovators,” which will address expanding access to foundational exposure and educational opportunities for students and individuals of all ages and backgrounds. Another element will focus on “Practicing Innovation,” which will address the empowerment of all innovative individuals by providing adequate resources and supportive work environments to turn their ideas into protectable inventions. A third element will focus on “Realizing Innovation,” which will address the assurance that all innovators can successfully commercialize their products and services.

Issues for Comment: The USPTO seeks comments from the public that will be used to help draft a national strategy to create opportunities that will expand our innovation ecosystem to include all individuals, including those from underrepresented socioeconomic, geographic, and demographic groups. The questions below are grouped according to the categories within the broad conceptual framework outlined above for the national strategy. The USPTO welcomes answers to these questions, as well as any additional comments, from the public:

I. General

1. Inventors and entrepreneurs come from all walks of life and are not always employed by a large corporate or educational institution. How can people and organizations in the innovation ecosystem better support them?

2. Women and some minorities have not participated proportionally in the patenting of inventions. What barriers to innovation inclusion are specific to underrepresented groups? What supporting role should government organizations play in helping underrepresented groups overcome these barriers?

3. Mentoring and networking have been shown to be effective tools in supporting and encouraging underrepresented inventors and entrepreneurs. How can organizations and intellectual property practitioners in the innovation ecosystem better connect underrepresented innovators to each other and to mentors, both internally and across organizations?

4. Developing organizational metrics to document the effectiveness of diversity and inclusion initiatives is necessary to track outcomes of action plans and initiatives. What are best practices that organizations can internally employ to measure their own progress, particularly in the area of intellectual property protection?

5. Measuring national progress in realizing greater inclusion and diversity in invention, entrepreneurship, and intellectual property may take years, and it will be critical to identify complementary short- and long-term metrics that are precursors to and indicators of expanding innovation. What are some specific, meaningful, and relevant measures that can be used to:

a. Support year-over-year performance of action plans and initiatives in the short-term?

b. Demonstrate the long-term creation of diversity and inclusion in the innovation ecosystem while complementing short-term performance metrics?

6. Invention, entrepreneurship, and intellectual property protection have been shown to be concentrated in certain areas of the country and among individuals from higher socioeconomic groups. What new or existing channels could be created or utilized to more effectively deliver information and resources to prospective innovators from all demographic, geographic, and economic backgrounds?

II. Creating Innovators—Helping To Prepare People To Obtain the Skills and Develop the Interests Necessary To Become Innovators, Problem Solvers, and Entrepreneurs

7. Research has shown that “invention education”—the infusion of transdisciplinary education in problem identification and problem solving—is critical to developing innovation skills in learners. How can educational institutions at all levels (pre-kindergarten through post-graduate) successfully infuse concepts of invention, entrepreneurship, and intellectual property education into curricula?

8. To supplement formal education, how can community institutions, particularly in rural and economically disadvantaged areas, build awareness of, and skills and interests in, invention, entrepreneurship, and intellectual property among students of all ages?

9. More can be done to help teachers, even those with a formal science, technology, engineering, or mathematics (STEM) background, incorporate concepts of innovation into their teaching methods. What new or existing professional development opportunities, resources, and programs could train teachers to incorporate invention education concepts into their instruction? How could these efforts be leveraged and scaled so that similar resources and opportunities are accessible to all teachers?

III. Practicing Innovation—Harnessing Skills and Interests to the Act of Innovation

10. Recent progress in developing STEM graduates from underrepresented groups has been documented. How can similar rates of invention and entrepreneurship be attained? How can organizations best recruit and retain innovators from diverse backgrounds?

11. Inventors thrive when cultural and institutional barriers within workplaces are minimized or removed. What are examples of these barriers, and how can organizations remove them to create an inclusive, innovative workplace culture?

12. Access to information and resources is pivotal for the development of individual inventors and small businesses. How can the nation better support individual inventors and small businesses with resources so they can successfully translate their skills and creativity into the acts of invention, intellectual property protection, and entrepreneurship?

13. Another important objective is increasing diversity in the entire intellectual property field. What are ways of promoting diversity in the corps of intellectual property attorneys and agents who represent innovators?

IV. Realizing Innovation—Reaping the Personal and Societal Benefits of Innovation

14. Financial support is a critical element in translating an innovation into commercial success. What organizations, programs, or other efforts help promote access to capital to an expanded group of inventors and entrepreneurs—demographically, geographically, and economically?

15. Successfully commercializing an inventive product or concept requires in-depth knowledge about production processes, market forces, and other pertinent information. What types of mentoring initiatives could be implemented or expanded to help experienced entrepreneurs impart this specialized knowledge to diverse and novice inventors?

16. Formalized partnerships like tech transfer offices/conferences, accelerators, and incubators can help streamline commercialization objectives such as product development, licensing, and distribution. What can be done to make these partnerships more accessible and effective at supporting all inventors and entrepreneurs?

V. Other

17. Please provide any other comments that you feel should be considered as part of, and that are directly related to, the development of a national strategy to expand the innovation ecosystem demographically, geographically, and economically.

Andrei Iancu,
Under Secretary of Commerce for Intellectual Property and Director of the United States Patent and Trademark Office.

[FR Doc. 2020-28298 Filed 12-22-20; 8:45 am]

BILLING CODE 3510-16-P